DEPARTMENT OF HEALTH AND HUMAN SERVICES

Health Resources and Services Administration

Council on Graduate Medical Education

AGENCY: Health Resources and Service Administration (HRSA), Department of Health and Human Services (HHS).

ACTION: Notice of Advisory Council meeting.

SUMMARY: In accordance with the Federal Advisory Committee Act, this notice announces a public meeting of the Council on Graduate Medical Education (COGME). This notice is being published less than 15 days prior to the meeting date due to unforeseen administrative delays.

DATES: Wednesday, June 20, 2018, from 8:30 a.m. to 5:00 p.m. ET, and Thursday, June 21, 2018, from 8:30 a.m. to 2:00 p.m. ET.

ADDRESSES: This meeting is an in person meeting and will offer virtual access through teleconference and webinar. The address for the meeting is 5600 Fishers Lane, Rockville, Maryland 20857.

• The conference call-in number is 1-800-619-2521; passcode: 9271697.

• The webinar link is https://hrsa.connectsolutions.com/cogme.

FOR FURTHER INFORMATION CONTACT: Kennita R. Carter, MD, Designated Federal Official, Division of Medicine and Dentistry, Bureau of Health Workforce, HRSA, Address: 5600 Fishers Lane, 15N-116, Rockville, Maryland 20857; (2) call 301-945-3505; or (3) send an email to KCarter@hrsa.gov.

SUPPLEMENTARY INFORMATION:

Background: COGME provides advice and recommendations to the Secretary of HHS and to Congress on a range of issues, including: The nature and financing of medical education training; the development of performance measures and longitudinal evaluation methods of medical education programs; foreign medical school graduates; and the supply and distribution of the physician workforce in the United States, including any projected shortages or excesses. COGME submits reports to the Secretary of HHS; the Senate Committee on Health, Education, Labor, and Pensions; and the House of Representatives Committee on Energy and Commerce.

Agenda: During the meeting, the COGME members will discuss the strategic directions of the Council and issues related to physician workforce development and graduate medical education, leading to selection a topic for its 24th Report to Congress. An agenda will be available on the COGME website https://www.hrsa.gov/advisorycommittees/bhpradvisory/COGME/ prior to the meeting. Please note that agenda items are subject to change as priorities dictate.

Public Participation: Members of the public will have the opportunity to provide comments. Public participants may submit written statements in advance of the scheduled meeting. Oral comments will be honored in the order they are requested and may be limited as time allows. Requests to provide written statements or make oral comments to the COGME should be sent to Dr. Kennita R. Carter.

Since this meeting is held in a Federal government building, attendees must go through a security check to enter the building. Non-U.S. Citizen attendees must notify HRSA of their planned attendance at least 10 workdays prior to the meeting in order to facilitate their entry into the building. All attendees are required to present government-issued identification prior to entry. Individuals who plan to participate and require special assistance, such as sign language interpretation or other reasonable accommodations, should notify Dr. Kennita Carter, using the address and phone number above at least 10 business days prior to the meeting.

Amy P. McNulty,
Acting Director, Division of the Executive Secretariat.

[FR Doc. 2018-12512 Filed 6-8-18; 8:45 am]

BILLING CODE 4165-15-P